DEPARTMENT OF ENERGY

Federal Energy Regulatory Commission

Combined Notice of Filings

Take notice that the Commission has received the following Natural Gas Pipeline Rate and Refund Report filings:

Filings Instituting Proceedings

Docket Numbers: RP14-600-000.

Applicants: Big Sandy Pipeline, LLC.

Description: Elimination of OFO Reports to be effective 4/4/2014.

Filed Date: 3/4/14.

Accession Number: 20140304-5039.

Comments Due: 5 p.m. ET 3/17/14.

Docket Numbers: RP14-601-000.

Applicants: Golden Pass Pipeline LLC.

Description: 2014 Annual Purchases and Sales Report.

Filed Date: 3/4/14.

Accession Number: 20140304-5119.

Comments Due: 5 p.m. ET 3/17/14.

Docket Numbers: RP14-602-000.

Applicants: Golden Pass Pipeline LLC.

Description: 2014 Annual Report of Penalty Revenue and Costs of Golden Pass Pipeline LLC to be effective 4/1/2014.

Filed Date: 3/4/14.

Accession Number: 20140304-5124.

Comments Due: 5 p.m. ET 3/17/14.

Docket Numbers: RP14-603-000.

Applicants: Tallgrass Interstate Gas Transmission, L.

Description: Neg Rate 2014/03/04 Atmos to be effective 3/5/2014.

Filed Date: 3/4/14.

Accession Number: 20140304-5148.

Comments Due: 5 p.m. ET 3/17/14.

Docket Numbers: RP14-604-000.

Applicants: Enable Gas Transmission, LLC.

Description: Negotiated Rate Filing—March 2014—Tenaska 9840 Att A to be effective 3/4/2014.

Filed Date: 3/4/14.

Accession Number: 20140304-5160.

Comments Due: 5 p.m. ET 3/17/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-714-003.

Applicants: Hardy Storage Company, LLC.

Description: Settlement Implementation to be effective 4/1/2014.

Filed Date: 3/4/14.

Accession Number: 20140304-5186.

Comments Due: 5 p.m. ET 3/17/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2014.
Nathaniel J. Davis, Sr.,
Deputy Secretary.

[FR Doc. 2014-05326 Filed 3-11-14; 8:45 am]

BILLING CODE 6717-01-P